DEPARTMENT OF HEALTH AND HUMAN SERVICES

National Institutes of Health

Center for Scientific Review; Amended Notice of Meeting

Notice is hereby given of a change in the meeting of the Center for Scientific Review Special Emphasis Panel, November 8, 2012, 1:00 p.m. to November 8, 2012, 4:00 p.m., National Institutes of Health, 6701 Rockledge Drive, Bethesda, MD 20892 which was published in the Federal Register on October 10, 2012, 77 FR Pg 61614-61615.

The meeting will be held on November 20, 2012 instead of November 8, 2012 at 9:30 a.m. and will end at 11:30 a.m. The meeting location remains the same. The meeting is closed to the public.

Dated: November 9, 2012.
Carolyn A. Baum,
Program Analyst, Office of Federal Advisory Committee Policy.

[FR Doc. 2012-28169 Filed 11-19-12; 8:45 am]

BILLING CODE 4140-01-P